U.S.-CHINA ECONOMIC AND SECURITY REVIEW COMMISSION

Notice of Open Public Meeting

AGENCY: U.S.-China Economic and Security Review Commission.

ACTION: Notice of open public meeting.

SUMMARY: Notice is hereby given of a meeting of the U.S.-China Economic and Security Review Commission to review and edit drafts of the 2017 Annual Report to Congress. The Commission is mandated by Congress to investigate, assess, and report to Congress annually on the “the national security implications of the economic relationship between the United States and the People's Republic of China.” Pursuant to this mandate, the Commission will hold a public meeting to review and edit drafts of the 2017 Annual Report to Congress.

DATES: The meeting is scheduled for Thursday, July 13, 2017, from 9:00 a.m. to 5:00 p.m. and Friday, July 14, 2017, from 9:00 a.m. to 5:00 p.m.

ADDRESSES: 444 North Capitol Street NW., Room 231, Washington, DC 20001. Public seating is limited and will be available on a “first-come, first-served” basis. Reservations are not required to attend the meeting.

FOR FURTHER INFORMATION CONTACT: Any member of the public seeking further information concerning the meeting should contact Alexis Brigmon, 444 North Capitol Street NW., Suite 602, Washington, DC 20001; telephone: 202-624-1454, or via email at abrigmon@uscc.gov. Reservations are not required to attend the meeting.

SUPPLEMENTARY INFORMATION:

Purpose of Meeting: Pursuant to the Commission's mandate, members of the Commission will meet to review and edit drafts of the 2017 Annual Report to Congress.

The Commission is subject to the Federal Advisory Committee Act (FACA) with the enactment of the Science, State, Justice, Commerce and Related Agencies Appropriations Act, 2006 that was signed into law on November 22, 2005 (Pub. L. 109-108). In accordance with FACA, the Commission's meeting to make decisions concerning the substance and recommendations of its 2017 Annual Report to Congress are open to the public.

Topics to Be Discussed: The Commission will consider draft report sections addressing the following topics:

• U.S.-China Economic and Trade Relations, including: Chinese Investment in the United States.

• U.S.-China Security Relations, including: Hotspots along China's Maritime Periphery.

• China and the World, including: Hong Kong.

• China's High Tech Development, including: China's Pursuit of Global Dominance in Computing, Robotics, and Biotechnology; and China's Pursuit of Advanced Weapons.

Required Accessibility Statement: The meeting will be open to the public. The Commission may recess the meeting to address administrative issues in closed session.

The Commission will also recess the meeting around noon for a lunch break. At the beginning of the lunch break, the Chairman will announce what time the meeting will reconvene.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: June 28, 2017.
Michael Danis,
Executive Director, U.S.-China Economic and Security Review Commission.

[FR Doc. 2017-13995 Filed 6-30-17; 8:45 am]

BILLING CODE 1137-00-P